DEPARTMENT OF DEFENSE

DEPARTMENT OF ENERGY

ENVIRONMENTAL PROTECTION AGENCY

[Docket No. EPA-HQ-OAR-2006-0957]

NUCLEAR REGULATORY COMMISSION

Multi-Agency Radiation Survey and Assessment of Materials and Equipment Manual

AGENCY: Department of Defense, Department of Energy, Environmental Protection Agency, and the Nuclear Regulatory Commission.

ACTION: Notice of availability with request for public comment.

SUMMARY: The Department of Defense (DoD), Department of Energy (DOE), U.S. Environmental Protection Agency (EPA), and the U.S. Nuclear Regulatory Commission (NRC) are announcing for public comment the availability of a draft document, entitled the “Multi-Agency Radiation Survey and Assessment of Materials and Equipment Manual” (MARSAME). MARSAME provides information on planning, conducting, evaluating, and documenting radiological surveys for demonstrating compliance with measurable action levels. MARSAME, when finalized, will be a multi-agency consensus document. The agencies are seeking public comment in order to receive feedback from the widest range of interested parties and to ensure that all information relevant to developing the document is received. The agencies will review public comments received on the draft MARSAME as well as comments from a concurrent, independent, scientific peer review. Suggested changes will be incorporated, where appropriate, in response to those comments.

DATES: The comment period closes on April 16, 2007. Comments received after that date will be considered if it is practical to do so, but no assurance can be given for consideration of late comments.

ADDRESSES: Submit your comments by one of the methods:

• http://www.regulations.gov: Follow the on-line instructions for submitting comments.

• http://www.marsame.org: Follow the on-line instructions for submitting comments.

• Mail: Air and Radiation Docket and Information Center, U.S. Environmental Protection Agency, Mail Code 6102T, 1200 Pennsylvania Ave., NW., Washington, DC 20460 or Chief, Rulemaking, Directives and Editing Branch, Division of Administrative Services, U.S. Nuclear Regulatory Commission, Washington, DC 20555-0001.

• Hand Delivery: Air and Radiation Docket and Information Center, U.S. Environmental Protection Agency, EPA West Building, Room 3334, 1301 Constitution Ave., NW., Washington, DC. Such deliveries are only accepted during the Docket's normal hours of operation, and special arrangements must be made for deliveries of boxed information.

Copies of all comments received by one agency will be periodically copied and sent to the others. Copies of the draft MARSAME and all comments received may be examined or copied for a fee electronically in http://www.regulations.gov, or in hard copy at the HQ EPA Docket Public Reading Room, U.S. Environmental Protection Agency, Room 3334, Docket ID No. EPA-HQ-OAR-2006-0957, 1301 Constitution Ave., NW., Washington, DC 20460, and the NRC Public Document Room, 11555 Rockville Pike, Rockville, Maryland 20852-2747. The HQ EPA Docket Public Reading Room is open from 8:30 a.m. to 4:30 p.m., Monday through Friday, excluding legal holidays. The telephone number for the EPA HQ Docket Public Reading Room is (202) 566-1744. DOE, EPA, and NRC each have a publication number for MARSAME. They are: for DOE, DOE/EH-707; for EPA, EPA 402-R-06-002; for NRC, NUREG-1575, Sup. 1. A free single copy of the draft MARSAME may be requested by writing to: the Distribution and Mail Services Section, U.S. Nuclear Regulatory Commission, Washington, DC 20555-0001 or by fax to (301) 415-2289. The document is also available through the Internet at: http://www.epa.gov/radiation/marssim.

Instructions for Using the EPA Docket: Direct your comments to Docket ID No. EPA-HQ-OAR-2006-0957. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment.

If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. All documents in the docket are listed in the www.regulations.gov index. Although listed in the index, some information is not publicly available, e.g., CBI or other information whose disclosure is restricted by statute. Certain other material, such as copyrighted material, will be publicly available only in hard copy.

Instructions for Using the MARSAME comment Web site: Alternatively, you may submit a comment via the http://www.marsame.org comment system without going through www.regulations.gov. Users of the MARSAME comment Web site will be asked for their name and e-mail address, and then will receive a username and password at the e-mail address that was submitted. User's names and e-mail address will not appear in any public document or database.

FOR FURTHER INFORMATION CONTACT: Any of the following points of contact for each agency for technical information (See ADDRESSES section above for directions on obtaining a copy of the draft MARSAME.): DoD: Steven Doremus, Phone: (757) 887-7745, U.S. Navy, NAVSEADET RASO, NWS, PO Drawer 260, Yorktown, VA 23691-0260; DOE: W. Alexander Williams, Phone: (301) 903-8149, U.S. Department of Energy (EM-23), 1000 Independence Avenue, SW., Washington, DC 20585; EPA: Kathryn Snead; Phone: (202) 343-9228, U.S. Environmental Protection Agency, Mail Stop 6608J, 1200 Pennsylvania Avenue, NW., Washington, DC 20460-1000; NRC: Robert A. Meck, Phone: (301) 415-6205, U.S. Nuclear Regulatory Commission, Mail Stop T9-C39, Washington, DC 20555-0001. Questions concerning the multi-agency document development project should be addressed to CAPT Colleen Petullo, U.S. Environmental Protection Agency/U.S. Public Health Service, OSWER/ERT, PO Box 93478, Las Vegas, NV 89193-3478, (702) 784-8004.

SUPPLEMENTARY INFORMATION: MARSAME provides information on planning, conducting, evaluating, and documenting environmental radiological surveys for demonstrating compliance with measurable action levels applied to materials and equipment. MARSAME, when finalized, will be a multi-agency consensus document and a supplement to the Multi-Agency Radiation Survey and Site Investigation Manual (MARSSIM).

MARSAME was developed collaboratively over the past five years by the technical staffs of the four Federal agencies having authority for control of radioactive materials: DoD, DOE, EPA, and NRC (60 FR 12555; March 7, 1995). For a time, staff from the Department of Homeland Security participated in the development of MARSAME. Contractors to the DOE, EPA, and NRC, and members of the public have been present during the open meetings of the MARSAME work group. MARSAME's objective is to describe standardized and consistent approaches for surveys, which provide a high degree of assurance that established action levels can be measured and an appropriate disposition of materials or equipment can be technically defended. The techniques, methodologies, and philosophies that form the bases of this manual were developed to be consistent with current Federal limits, guidelines, and procedures.

Although Federal agency personnel are involved in the preparation of this document, the manual does not represent the official position of any participating agency at this time. An earlier draft of the document has been reviewed within the Federal agencies. Comments were received and comments from the review that reflected a technical error or flaw in logic or information flow were addressed. The other comments from the Federal agencies will be addressed along with the public comments. The public review is a necessary step in the development of a final multi-agency consensus document. The document will also receive formal technical peer review. The draft has not been approved by the participating agencies for use in part or in whole and should not be used, cited, or quoted except for the purposes of providing comments as requested.

Reviewers are requested to focus on technical accuracy, and understandability. Reviewers are also requested to address five questions while reviewing MARSAME:

(1) Does MARSAME provide a practical and implementable approach to performing radiation measurements of materials and equipment? Are there any major drawbacks to the proposed methods?

(2) Is MARSAME technically accurate?

(3) Does MARSAME provide benefits that are not available using current methods? What is the value of MARSAME in comparison with other currently available alternatives?

(4) What are the costs associated with MARSAME in comparison with other currently available alternatives?

(5) Is the information in MARSAME understandable and presented in a logical sequence? How can the presentation of material be modified to improve the understandability of the manual?

Comments may be submitted as proposed modified text, or as a discussion. Comments should be accompanied by supporting bases, rationale, or data. To ensure efficient and complete comment resolution, commenters are requested to reference the page number and the line number of MARSAME to which the comment applies. Enter only the beginning page and line number, even if your comment applies to a number of pages or lines to follow.

Comments corresponding to an entire chapter, an entire section, or an entire table should be referenced to the line number for the title of the chapter (always line number 1), section, or table. Comments on footnotes should be referenced to the line in the main text where the footnote is indicated. Comments on figures should be referenced to the page on which the figure appears. Figures do not have line numbers. The figure number should be included in the text of the comment. Comments on the entire manual should be referenced to the title page.

Title: Draft Multi-Agency Radiation Survey and Assessment of Materials and Equipment Manual.

For the Department of Defense, dated this 19th day of December, 2006.
Alex Beehler,
Assistant Deputy Under Secretary of Defense (Environment, Safety and Occupational Health).

For the U.S. Department of Energy, dated this 1st day of January 2007.
Andrew C. Lawrence,
Director, Office of Nuclear Safety and Environment, Office of Health, Safety and Security.

For the U.S. Environmental Protection Agency, dated this 19th day of December 2006.
Elizabeth Cotsworth,
Director, Office of Radiation and Indoor Air.

For the U.S. Nuclear Regulatory Commission, dated this 28th day of December 2006.
James T. Wiggins,
Acting Director, Office of Nuclear Regulatory Research.

[FR Doc. 07-118 Filed 1-12-07; 8:45 am]

BILLING CODE 7590-01-P